DEPARTMENT OF THE TREASURY

Community Development Financial Institutions Fund

Proposed Collection: Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (“the Fund”) within the Department of the Treasury is soliciting comments concerning the Certification of Material Events Form. This specific information collection will capture information related to Community Development Entity (CDE)/New Markets Tax Credit material events, as well as Community Development Financial Institutions (CDFI) material events, in a single form. The revised document will provide a more comprehensive list of potential material events to inform CDEs and CDFIs of the events that need to be reported to the CDFI Fund and will require the CDE or CDFI to affirmatively indicate, through a series of specific questions, whether or not the event will have an impact on areas of operations that are of particular concern to the CDFI Fund. This information will enable the CDFI Fund to better manage the Material Events review process and monitor the effects of Material Events on certification or compliance status.

DATES: Written comments should be received on or before November 20, 2009 to be assured of consideration.

ADDRESSES: Direct all written comments to Bob Ibanez, Financial and Program Analyst, Community Development Financial Institutions Fund, U.S. Department of the Treasury, 601 13th Street, NW., Suite 200 South, Washington, DC 20005. Written comments may also be sent by fax to (202) 622-7754, or by e-mail to cdfihelp@cdfi.treas.gov. Please include the Subject line “Comments on the Certification of Material Events Form”.

FOR FURTHER INFORMATION CONTACT: Requests for additional information or copies of the form(s) and instructions should be directed to Bob Ibanez, Financial and Program Analyst, Community Development Financial Institutions Fund, U.S. Department of the Treasury, 601 13th Street, NW., Suite 200 South, Washington, DC 20005, by e-mail to cdfihelp@cdfi.treas.gov, or by phone to (202) 927-6232 (this is not a toll-free number).

SUPPLEMENTARY INFORMATION: Title: Certification of Material Events Form.

OMB Number: Pending OMB Approval.

Abstract: This specific information collection will capture information related to Community Development Entity (CDE)/New Markets Tax Credit material events, as well as Community Development Financial Institutions (CDFI) material events, in a single form. The revised document will provide a more comprehensive list of potential material events to inform CDEs and CDFIs of the events that need to be reported to the CDFI Fund and will require the CDE or CDFI to affirmatively indicate, through a series of specific questions, whether or not the event will have an impact on areas of operations that are of particular concern to the CDFI Fund. This information will enable the CDFI Fund to better manage the Material Events review process and monitor the effects of Material Events on certification or compliance status.

Current Actions: Currently revising and redesigning the Certification of Material Events Form.

Type of Review: New Collection.

Affected Public: CDFIs and CDEs; including business or other for-profit institutions, non-profit entities, and State, local and Tribal entities.

Estimated Number of Respondents: 200.

Estimated Annual Time Per Respondent: .25 Hours.

Estimated Total Annual Burden Hours: 50 Hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility and clarity of the information to be collected; (d) ways to minimize the burden of the collection of information on respondents, including through the use of automated collection techniques or other forms of information technology; and (e) estimates of capital or start-up costs and costs of operation, maintenance, and purchase of services to provide information.

Authority: 12 U.S.C. 4701 et seq.; 26 U.S.C. § 45D.

Dated: September 15, 2009.
Donna J. Gambrell,
Director, Community Development Financial Institutions Fund.

[FR Doc. E9-22676 Filed 9-18-09; 8:45 am]

BILLING CODE 4810-70-P